DEPARTMENT OF THE INTERIOR

Bureau of Land Management

[NV-056-5870-EU; N-78406]

Non-Competitive Sale of Reversionary Interest, Portion of Recreation and Public Purposes Act Patent Number 27-80-0056

AGENCY: Bureau of Land Management, Department of the Interior.

ACTION: Notice of realty action.

SUMMARY: The State of Nevada has filed an application with the Bureau of Land Management (BLM) to purchase, at fair market value, 102.5 acres of land in Clark County, Nevada, free and clear of a reversionary interest held by the United States, pursuant to a direct sale conducted in accordance with the Federal Land Policy and Management Act of 1976.

DATES: For a period until October 3, 2005, interested parties may submit comments to the Field Manager, BLM Las Vegas Field Office.

ADDRESSES: Las Vegas Field Office, Bureau of Land Management, 4701 N. Torrey Pines Drive, Las Vegas, NV 89130.

FOR FURTHER INFORMATION CONTACT: Shawna Woods, Realty Specialist, (702) 515-5099.

SUPPLEMENTARY INFORMATION: The following described land in Clark County, Nevada, was patented to the State of Nevada, Division of State Lands, pursuant to the Act of June 14, 1926 (44 Stat. 741, as amended; 43 U.S.C. 869 et seq.), on December 17, 1979, for a state prison (N-11732-02).

Mount Diablo Meridian, Nevada

T. 25 S., R. 59 E.

Portions of section 12 and section 13 as described in patent 27-80-0056.

Containing 480.00 acres, more or less.

Pursuant to the Recreation and Public Purpose (R&PP) Act, the United States retained and continues to hold a reversionary interest in the above described land. If the State of Nevada attempts to transfer the title to, or control over, the land to a “for profit” entity, or if the land is devoted to a “for profit” use, the land, as stated in the Act, “shall revert to the United States” (43 U.S.C. 869-2(a)). The State of Nevada proposes to change the use of the 102.5 acre parcel, located wholly within the above described 480 acre tract of land from a State prison use to a commercial (for profit) work related, privately owned industrial facility. If pursued, this new use would trigger the R&PP Act reverter or require its enforcement. Consequently, the State of Nevada has applied to the BLM to purchase, pursuant to section 203 of the Federal Land Policy Management Act of 1976 (Pub. L. 94-579), as amended, 43 U.S.C. 1713, of the following described parcel of land, free and clear of the R&PP Act reversionary interest of the United States, as pertaining to the particular parcel:

Mount Diablo Meridian, Nevada

T. 25 S., R. 59 E.

Section 12: NE¼NE¼SW¼SE¼, E½NW¼NE¼SW¼SE¼, S½NE¼SW¼SE¼, E½NE¼SW¼SW¼SE¼, SE¼SW¼SW¼SE¼, SE¼SW¼SE¼, SE¼SE¼

Section 13: NE¼NE¼

(Approximately 102.5 acres)

If the proposed sale is approved, the State of Nevada would pay the fair market value of this land in the sum of $823,000.00, as determined by the BLM authorized officer having taken into account an appraisal, conducted in accordance with the applicable appraisal standards and that assumed the land to be free and clear of the outstanding reversionary interest now held by the United States.

Direct sale procedures to the State of Nevada are considered appropriate, in this case, as the 102.5 acre parcel of land described above was patented previously to the State of Nevada, and transfer of the Federal reversionary interest to any other entity would not protect existing equities of the State of Nevada in the land. The direct sale is consistent with current BLM land use planning for the area. The commercial use of this parcel would benefit the State of Nevada by use of prison labor to train them with skills to return to society.

The conveyance for the reversionary interest of the 102.5 acres will be subject to the provisions of the Federal Land Policy and Management Act and applicable regulations of the Secretary of the Interior, and the land will continue to be subject to the following:

1. The reservation of a right-of-way thereon for ditches or canals constructed by the authority of the United States, Act of August 30, 1890 (26 Stat. 391, 43 U.S.C. 945).

2. All minerals shall be reserved to the United States, together with the right to prospect for, mine and remove such deposits from the same under applicable law and such regulations as the Secretary of the Interior may prescribe.

3. Subject to:

a. Valid existing rights;

b. A right-of-way for railroad purposes granted to the San Pedro, Los Angeles and Salt Lake Railroad Company, its successors or assigns, on April 20, 1906, by right-of-way CC-00360, pursuant to the Act of March 3, 1875, (18 Stat. 482, 43 U.S.C. 934-939);

c. A right-of-way for pipeline purposes granted to the Calnev Pipeline Company, its successors or assigns, on October 21, 1960, under the Act of February 15, 1901, 31 Stat. 790, 43 U.S.C. 959. (Nev-056213);

d. A right-of-way for roadway and communication purposes granted to the American Towers Corporation, its successors or assigns on March 22, 1960, by right-of-way No. Nev-053815, pursuant to the Act of October 21, 1976 (43 U.S.C. 1761) with an expiration date of March 21, 2010.

Detailed information concerning this action, including the environmental report and approved appraisal report, is available for review at the Las Vegas Field Office, Bureau of Land Management, 4701 N. Torrey Pines Dr., Las Vegas, Nevada 89130.

Any adverse comments regarding the proposed action will be reviewed by the State Director. In the absence of any adverse comments, the decision relative to the proposed action, when made by the Field Manager, BLM Las Vegas Field Office, will become effective October 17, 2005. The lands will not be offered for conveyance until after the decision becomes effective.

Authority: 43 CFR 2711.1-2(a) and (c).

Dated: July 11, 2005.
Sharon DiPinto,
Assistant Field Manager, Division of Lands, Las Vegas, NV.

[FR Doc. 05-16315 Filed 8-16-05; 8:45 am]

BILLING CODE 4310-HC-P